DEPARTMENT OF HEALTH AND HUMAN SERVICES

Centers for Disease Control and Prevention

[Program Announcement 01056]

Sigmoidoscopy and Error Reduction; Notice of Availability of Funds

A. Purpose

The Centers for Disease Control and Prevention (CDC) announces the availability of fiscal year (FY) 2001 funds for a grant program with the Institute for Clinical Evaluation (ICE) to conduct a project to improve the quality of care in flexible sigmoidoscopy. This program addresses the “Healthy People 2010” focus area of Immunization and Infectious Diseases. For additional information on “Healthy People 2010” visit the internet site: http://www.health.gov/healthypeople.

The purpose of the program is to improve the quality of care and reduce the error rate in patients undergoing sigmoidoscopy by improving the skills of the operator.

The objective of the program is to increase the number and geographic distribution of the flexible sigmoidoscopy simulators to (1) support testing for the credential, (2) allow continued research on the use of the simulation, and (3) offer trainees the opportunity to learn the manual skills associated with the procedure.

B. Eligible Applicants

Assistance will be provided only to ICE. No other applications are solicited. Eligibility is limited to ICE because fiscal year 2001 Federal appropriations specifically directs CDC to award this applicant funds to conduct a project to improve the quality of care in flexible sigmoidoscopy.

ICE is uniquely qualified to conduct the activities under this program because they are the only independent, non-profit organization offering a credential in flexible sigmoidoscopy to all relevant providers of the service. ICE combines expertise in medicine and psychometrics with years of experience in the development and administration of certification programs as well as knowledge and capability in the development of high quality evaluation devices and assessment systems for the health care professions.

The House of Representatives Conference Report accompanying the Departments of Labor, Health and Human Services, and Education and Related Agencies Appropriation Bill, 2000 (H.R. 4577, 106th Cong. (2000)), recognized ICE's unique qualifications for carrying out the activities in this grant (H.R. Rep. 106-1033, 2000).

Note: Title 2 of the United States Code, Chapter 26, Section 1611 states that an organization, described in section 501(c)(4) of the Internal Revenue Code of 1986, that engages in lobbying activities is not eligible to receive Federal funds constituting an award, grant, cooperative agreement, contract, loan or any other form.

C. Availability of Funds

Approximately $211,000 is available in FY 2001 to fund the award. It is expected that the award will begin on or about August 1, 2001, and will be made for a 12-month budget period within a project period of one year. The funding estimate may change.

D. Program Requirements

In conducting activities to achieve the purpose of this program, the recipient will be responsible for the following activities.

1. Increase the number of and geographic distribution of the flexible sigmoidoscopy simulators.

2. Conduct simulator testing.

3. Demonstrate that the flexible sigmoidoscopy credential and performance on the simulation reduces medical errors and improves the quality of care.

4. Demonstrate whether the simulation alone can replace the cognitive examination or whether the cognitive examination could be administered on the same computer as the simulation.

5. Locate the simulators in training programs, providing access thereby to candidates for the credential and subjects for the research.

6. Make the simulators available to the training programs for educational purposes.

7. Publish the results of the program demonstrations.

E. Application Content

Use the information in the Program Requirements, Other Requirements, and Evaluation Criteria sections to develop the application content. The application should describe ICE's ability to address the purpose and required activities of this announcement. The application will be evaluated on the criteria listed, so it is important to follow them specifically in laying out the program plan. The narrative should be no more than 25 double-spaced pages, printed on one side, with one-inch margins, and unreduced font.

F. Submission and Deadline

Application

Submit the original and two copies of PHS 5161-1 (OMB Number 0937-0189). Forms are available at the following Internet address: www.cdc.gov . . . Forms, or in the application kit.

On or before June 1, 2001, submit the application to the Grants management Specialist identified in the “Where to Obtain Additional Information” section of this announcement.

G. Evaluation Criteria

The application will be evaluated against the following criteria by an independent review group appointed by CDC:

1. Background/Need (20 points)

The extent to which the applicant demonstrates a strong understanding of the use of flexible sigmoidoscopy simulators. The extent to which the applicant illustrates the need for this grant program. The extent to which the applicant presents a clear goal for this grant that is consistent with the described need.

2. Capacity (30 points)

The extent to which the applicant demonstrates that it has the expertise, facilities, and other resources necessary to accomplish the program requirements, including curricula vitae of key personnel and letters of support from any participating organizations/ institutions.

3. Operational Plan (40 points)

a. The extent to which the applicant presents clear, time-phased objectives that are consistent with the stated program goal and a detailed operational plan outlining specific activities that are likely to achieve the objective. The extent to which the plan clearly outlines the responsibilities of each of the key personnel. (35 points)

b. The degree to which the applicant has met the CDC Policy requirements regarding the inclusion of women, ethnic, and racial groups in the proposed research. This includes: (1) The proposed plan for the inclusion of both sexes and racial and ethnic minority populations for appropriate representation; (2) The proposed justification when representation is limited or absent; (3) A statement as to whether the design of the study is adequate to measure differences when warranted; and (4) A statement as to whether the plans for recruitment and outreach for study participants include the process of establishing partnerships with community(ies) and recognition of mutual benefits. (5 points)

4. Evaluation Plan (10 points)

The extent to which the applicant presents a plan for monitoring progress toward the stated goals and objectives.

5. Budget (not scored)

The extent to which the applicant presents a detailed budget with a line-item justification and any other information to demonstrate that the request for assistance is consistent with the purpose and objectives of this grant program.

6. Human Subjects (Not scored)

Does the application adequately address the requirements of Title 45 CFR Part 46 for the protection of human subjects?

H. Other Requirements

Technical Reporting Requirements

Provide CDC with the original plus two copies of

1. progress report (semi-annual);

2. financial status report, no more than 90 days after the end of the budget period; and

3. final financial and performance reports, no more than 90 days after the end of the project period.

Send all reports to the Grants Management Specialist identified in the “Where to Obtain Additional Information” section of this announcement

The following additional requirements are applicable to this program. For a complete description of each, see Attachment I in the application kit.

AR-1 Human Subjects Requirements

AR-2 Requirements for Inclusion of Women and Racial and Ethnic Minorities in Research

AR-10 Smoke-Free Workplace Requirements

AR-11 Healthy People 2010

AR-12 Lobbying Restrictions

AR-15 Proof of Non-Profit Status

I. Authority and Catalog of Federal Domestic Assistance Number

This program is authorized under Sections 301(a) and 317(k)(2) of the Public Health Service Act (42 U.S.C. sections 241(a) and 247b(k)(2)), as amended. The Catalog of Federal Domestic Assistance number is 93.283.

J. Where to Obtain Additional Information

This and other CDC announcements can be found on the CDC home page Internet address: http://www.cdc.gov. Click on “Funding” then “Grants and Cooperative Agreements.”

To obtain additional information, contact: Merlin Williams, Grants Management Specialist, Grants Management Branch, Procurement and Grants Office, Centers for Disease Control and Prevention (CDC), 2920 Brandywine Road, Room 3000, M/S K-75, Atlanta, GA 30341-4146, Telephone: (770) 488-2765, Email address: mqw6@cdc.gov

For program technical assistance, contact: Steve Solomon, M.D., National Center for Infectious Diseases, Centers for Disease Control and Prevention (CDC), 1600 Clifton Road, N.E., M/S A-07, Atlanta, GA 30333, Telephone: (404) 639-6476, Facsimile: (404) 639-6483, Email address: SSolomon@cdc.gov

Dated: April 16, 2001.
John L. Williams,
Director, Procurement and Grants Office, Centers for Disease Control and Prevention (CDC).

[FR Doc. 01-9810 Filed 4-19-01; 8:45 am]

BILLING CODE 4163-18-P